OVERSEAS PRIVATE INVESTMENT CORPORATION

January 29, 2008 Public Hearing

OPIC's Sunshine Act notice of its Annual Public Hearing meeting was published in the Federal Register (Volume 73, Number 10, Page 2558) on January 15, 2008. No requests were received to provide testimony or submit written statements for the record; therefore, OPIC's annual public hearing scheduled for 2 p.m. on January 29, 2008 has been cancelled.

Contact Person for Information: Information on the hearing cancellation may be obtained from Connie M. Downs at (202) 336-8438, via facsimile at (202) 218-0136, or via e-mail at Connie.Downs@opic.gov.

Dated: January 24, 2008.
Connie M. Downs,
OPIC Corporate Secretary.

[FR Doc. 08-372 Filed 1-24-08; 12:10 pm]

BILLING CODE 3210-01-M